DEPARTMENT OF ENERGY

Federal Energy Regulatory Commission

Combined Notice of Filings #1

Take notice that the Commission received the following electric rate filings:

Docket Numbers: ER11-4683-004; ER11-4684-004; ER11-2489-004; ER12-726-003; ER12-2639-002; ER11-3620-005; ER11-2882-006; ER10-2432-005; ER10-2435-005; ER10-2440-005; ER10-2442-005; ER10-2444-005; ER10-2446-005; ER10-2449-005; ER12-1431-003; ER12-1434-003; ER12-1432-003; ER12-1435-003; ER10-3139-005; ER12-2510-002; ER12-2511-002; ER12-2512-002; ER12-2513-002; ER13-1139-004.

Applicants: Elizabethtown Energy, LLC, Lumberton Energy, LLC, Hatchet Ridge Wind, LLC, Spring Valley Wind LLC, Ocotillo Express LLC, Lyonsdale Biomass, LLC, ReEnergy Sterling CT Limited Partnership, Bayonne Plant Holding, L.L.C., Camden Plant Holding, L.L.C., Dartmouth Power Associates Limited Partn, Elmwood Park Power, LLC, Newark Bay Cogeneration Partnership, L.P, Pedricktown Cogeneration Company LP, York Generation Company LLC, ReEnergy Ashland LLC, ReEnergy Fort Fairfield LLC, ReEnergy Livermore Falls LLC, ReEnergy Stratton LLC, Black River Generation, LLC, Brandon Shores LLC,C.P. Crane LLC,H.A. Wagner LLC, Raven Power Marketing LLC, Imperial Valley Solar 1, LLC.

Description: Notification of Non-Material Change in Status of Riverstone MBR Entities.

Filed Date: 9/5/13.

Accession Number: 20130905-5273.

Comments Due: 5 p.m. ET 9/26/13.

Docket Numbers: ER13-38-003.

Applicants: Midcontinent Independent System Operator, Inc.

Description: 09-06-2013 SA 6500 Escanaba Original SSR Agr to be effective 6/15/2012.

Filed Date: 9/6/13.

Accession Number: 20130906-5000.

Comments Due: 5 p.m. ET 9/27/13.

Docket Numbers: ER13-973-001.

Applicants: Saja Energy LLC.

Description: Notice of Change in Status under Market-Based Rate Authority of Saja Energy LLC.

Filed Date: 9/6/13.

Accession Number: 20130906-5125.

Comments Due: 5 p.m. ET 9/27/13.

Docket Numbers: ER13-1659-001.

Applicants: PJM Interconnection, L.L.C.

Description: Compliance Filing per August 8, 2013 Order in Docket No. ER13-1659-000 to be effective 8/12/2013.

Filed Date: 9/6/13.

Accession Number: 20130906-5014.

Comments Due: 5 p.m. ET 9/27/13.

Docket Numbers: ER13-2326-000.

Applicants: Southwest Power Pool, Inc.

Description: 2573 Buckeye Wind Energy LLC GIA to be effective 8/15/2013.

Filed Date: 9/6/13.

Accession Number: 20130906-5018.

Comments Due: 5 p.m. ET 9/27/13.

Docket Numbers: ER13-2327-000.

Applicants: Midcontinent Independent System Operator, Inc.

Description: 09-06-13 Order No. 771 Compliance to be effective 10/30/2013.

Filed Date: 9/6/13.

Accession Number: 20130906-5060.

Comments Due: 5 p.m. ET 9/27/13.

Docket Numbers: ER13-2328-000.

Applicants: Southern California Edison Company.

Description: SGIA and Distribution Service Agmt for 13607 Orden Roof Top Solar Project to be effective 9/7/2013.

Filed Date: 9/6/13.

Accession Number: 20130906-5069.

Comments Due: 5 p.m. ET 9/27/13.

Docket Numbers: ER13-2329-000.

Applicants: Southern California Edison Company.

Description: SGIA and Distribution Service Agmt for 13300 Carmenita Roof Top Solar Project to be effective 9/7/2013.

Filed Date: 9/6/13.

Accession Number: 20130906-5074.

Comments Due: 5 p.m. ET 9/27/13.

Docket Numbers: ER13-2330-000.

Applicants: Southern California Edison Company.

Description: SGIA and Distribution Service Agmt for 13227 Orden Roof Top Solar Project to be effective 9/7/2013.

Filed Date: 9/6/13.

Accession Number: 20130906-5078.

Comments Due: 5 p.m. ET 9/27/13.

Docket Numbers: ER13-2331-000.

Applicants: Southern California Edison Company.

Description: SGIA and Distribution Service Agmt for 12825 Carmenita Roof Top Solar Project to be effective 9/7/2013.

Filed Date: 9/6/13.

Accession Number: 20130906-5079.

Comments Due: 5 p.m. ET 9/27/13.

Docket Numbers: ER13-2332-000.

Applicants: Southern California Edison Company.

Description: SGIA and Distribution Service Agmt for 13220 Orden Roof Top Solar Project to be effective 9/7/2013.

Filed Date: 9/6/13.

Accession Number: 20130906-5081.

Comments Due: 5 p.m. ET 9/27/13.

Docket Numbers: ER13-2333-000.

Applicants: NorthWestern Corporation.

Description: SA 693—Pacific Steel—Havre to be effective 8/5/2013.

Filed Date: 9/6/13.

Accession Number: 20130906-5107.

Comments Due: 5 p.m. ET 9/27/13.

Docket Numbers: ER13-2334-000.

Applicants: Midcontinent Independent System Operator, Inc.

Description: 09-06-2013 SA 6001 Interstate-ITC Blackstart to be effective 9/24/2013.

Filed Date: 9/6/13.

Accession Number: 20130906-5113.

Comments Due: 5 p.m. ET 9/27/13.

Docket Numbers: ER13-2335-000.

Applicants: Southwest Power Pool, Inc.

Description: Attachment AD 2012 Second Amendatory Agreement to be effective 9/1/2013.

Filed Date: 9/6/13.

Accession Number: 20130906-5135.

Comments Due: 5 p.m. ET 9/27/13.

Take notice that the Commission received the following electric securities filings:

Docket Numbers: ES13-52-000.

Applicants: Interstate Power and Light Company.

Description: Application of Interstate Power and Light Company for Amendment of Original Application and Authorization to Issue Securities and Request for Waiver of Competitive Bidding Requirements.

Filed Date: 9/6/13.

Accession Number: 20130906-5122.

Comments Due: 5 p.m. ET 9/27/13.

Take notice that the Commission received the following open access transmission tariff filings:

Docket Numbers: OA13-7-000.

Applicants: Prairie Power, Inc.

Description: Application of Prairie Power, Inc. continued waiver of the requirements of Order Nos. 888, 889, and 890, and Part 358 of the Commission's regulations.

Filed Date: 9/4/13.

Accession Number: 20130904-5210.

Comments Due: 5 p.m. ET 9/25/13.

Take notice that the Commission received the following qualifying facility filings:

Docket Numbers: QF12-135-000.

Applicants: Iowa Hydro, LLC.

Description: Proposed Refund Report and Request for Waivers of Filing and Refund Requirements of Iowa Hydro, LLC, et. al.

Filed Date: 9/6/13.

Accession Number: 20130906-5013.

Comments Due: 5 p.m. ET 10/9/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 06, 2013.
Nathaniel J. Davis, Sr.,
Deputy Secretary.

[FR Doc. 2013-22282 Filed 9-12-13; 8:45 am]

BILLING CODE 6717-01-P